DEPARTMENT OF ENERGY

Federal Energy Regulatory Commission

[Project No. 14851-003]

White Pine Waterpower, LLC; Notice of Revised Schedule for White Pine Pumped Storage Project

This notice revises the Federal Energy Regulatory Commission's (Commission) schedule for processing White Pine Waterpower, LLC's license application for the White Pine Pumped Storage Project. A prior notice issued on May 11, 2023, identified an anticipated schedule for issuance of draft and final National Environmental Policy Act (NEPA) documents and a final order for the project. After the issuance of that notice, White Pine Waterpower, LLC indicated that it will be conducting a hydrogeologic study that provides data on local aquifer stratigraphy, groundwater elevation, and water quality needed to support the design of the project's water supply wellfield. White Pine Waterpower, LLC stated that it would file the study results by “November 2024”. On October 26, 2023, Commission staff issued a letter requiring White Pine Waterpower, LLC to file the corresponding study results with the Bureau of Land Management before filing them with the Commission by January 31, 2025. To account for the additional time needed for White Pine Waterpower, LLC to complete the studies and file the study results, the application will be processed according to the following revised schedule.

Notice of Ready for Environmental Analysis: April 14, 2025

Draft NEPA Document: January 9, 2026

Final NEPA Document: July 24, 2026

In addition, in accordance with Title 41 of the Fixing America's Surface Transportation Act, enacted on December 4, 2015, agencies are to publish completion dates for all federal environmental reviews and authorizations. This notice identifies the Commission's anticipated schedule for issuance of the final order for the project, which is based on the revised issuance date for the final NEPA document. Accordingly, we currently anticipate issuing a final order for the project no later than:

Issuance of Final Order November 19, 2026

If a schedule change becomes necessary, an additional notice will be provided so that interested parties and government agencies are kept informed of the project's progress.

Dated: November 15, 2023.
Kimberly D. Bose,
Secretary.

[FR Doc. 2023-25709 Filed 11-20-23; 8:45 am]

BILLING CODE 6717-01-P